Title 3—

The President

Proclamation 8975 of May 3, 2013

National Charter Schools Week, 2013

By the President of the United States of America

A Proclamation

America's success in the 21st century depends on what we do today to reignite the true engine of our economic growth: a thriving middle class. Achieving that vision means making sure our education system provides ladders of opportunity for our sons and daughters. We need to equip all our students with the education and skills that put them on the path to good jobs and a bright future—no matter where they live or what school they attend.

Charter schools play an important role in meeting that obligation. These learning laboratories give educators the chance to try new models and methods that can encourage excellence in the classroom and prepare more of our children for college and careers. In return for this flexibility, we should expect high standards and accountability, and make tough decisions to close charter schools that are underperforming and not improving. But where charter schools demonstrate success and exceed expectations, we should share what they learn with other public schools and replicate those that produce dramatic results. Many charter schools choose to locate in communities with few high-quality educational options, making them an important partner in widening the circle of opportunity for students who need it most.

Our children are ready to write the next great chapter in the American story. As parents and teachers and citizens, it is up to all of us to provide them the tools they need to keep our country moving forward—from a degree that leads to a good job to the critical thinking skills that make our democracy thrive. This week, we recognize charter schools that are advancing those goals, and we recommit to helping our Nation's children go as far as their talents will take them.

NOW, THEREFORE, I, BARACK OBAMA, President of the United States of America, by virtue of the authority vested in me by the Constitution and the laws of the United States, do hereby proclaim May 5 through May 11, 2013, as National Charter Schools Week. I commend our Nation's charter schools, teachers, and administrators, and I call on States and communities to support charter schools and the students they serve.

IN WITNESS WHEREOF, I have hereunto set my hand this third day of May, in the year of our Lord two thousand thirteen, and of the Independence of the United States of America the two hundred and thirty-seventh.

[FR Doc. 2013-11131

Filed 5-7-13; 11:15 am]

Billing code 3295-F3